DEPARTMENT OF THE INTERIOR

Bureau of Land Management

[OR-130-1020-PH; GP4-0292]

Notice of Cancellation of October 7, 2004 Meeting, Eastern Washington Resource Advisory Council Meeting and Notice To Reschedule Meeting for November 8, 2004

AGENCY: Bureau of Land Management, Interior.

ACTION: Notice of public meeting cancellation and rescheduling.

SUMMARY: In accordance with the Federal Land Policy and Management Act (FLPMA) and the Federal Advisory Committee Act of 1972 (FACA), the U.S. Department of the Interior, Bureau of Land Management (BLM) Eastern Washington Resource Advisory Council (RAC), will meet as indicated below.

DATES: The Eastern Washington Resource Advisory Council (EWRAC) meeting for October 7, 2004, at the Spokane District Office, Bureau of Land Management, 1103 North Fancher Road, Spokane, Washington, 99212-1275 is cancelled and rescheduled for November 8, 2004.

SUPPLEMENTARY INFORMATION: The rescheduled meeting on November 8, 2004 will start at 9 a.m. and adjourn about 4 p.m. Topics on the meeting agenda include:

• Fiscal Year 2004 Accomplishments.

• Fiscal Year 2005 Work Plan.

The RAC meeting is open to the public, and there will be an opportunity for public comments at 10:30 a.m.. Information to be distributed to Council members for their review is requested in written format 10 days prior to the Council meeting date.

FOR FURTHER INFORMATION CONTACT: Sandra Gourdin or Kathy Helm, Bureau of Land Management, Spokane District Office, 1103 N. Fancher Road, Spokane, Washington, 99212, or call (509) 536-1200.

Dated: September 29, 2004.
Joseph K. Buesing,
District Manager.

[FR Doc. 04-22353 Filed 10-4-04; 8:45 am]

BILLING CODE 4310-33-P